POSTAL SERVICE

39 CFR Part 111

Changes to Current Delivery Record Filing System

AGENCY: Postal Service.

ACTION: Final rule.

SUMMARY: This final rule sets forth revised Domestic Mail Manual (DMM) standards adopted by the Postal Service to implement an electronic storage and retrieval system for delivery records. Conforming changes are proposed in portions of the Domestic Mail Manual concerning delivery record information to reflect the new system, in particular the fact that hardcopy records will no longer be retained at the office of address for delivery record inquiry and receipt purposes. Additionally, changes are proposed to the DMM to indicate the change in how information from the delivery record, requested using PS Form 3811-A, Domestic Return Receipt (After Mailing), will be conveyed to customers. A notice of intent on this issue was published in the Federal Register on June 10, 1998 (63 FR 31815). Responses to that notice are addressed in this rule.

EFFECTIVE DATES: May 5, 2000.

FOR FURTHER INFORMATION CONTACT: Carrie Bornitz, (202)-268-6797.

SUPPLEMENTARY INFORMATION: Scope: A national Postal Service electronic database for maintaining records of delivery date, time, and other information is already in place and is being used for Express Mail and Delivery Confirmation items. Testing of the database included material handling, operations, and systems tests for the capturing, routing, optical scanning, storage, and retrieval of electronic records that include a signature. Testing of this universal strategy for signature capture began in November 1998 and was completed in December 1999. The increased accessibility of an electronic database will improve customer service and response time and speed up processes involving the filing of indemnity claims.

Current Internal Use (Hardcopy Records): Delivery records are maintained for Postal Service use to reply to delivery inquiries and to substantiate indemnity claims (additional internal uses exist as well). Current delivery records include type of special service item, article number, recipient signature, printed name, delivery address, and delivery date. When applicable, the delivery record includes where a mailpiece was forwarded or if an item was returned or refused. Records are also made available to customers in the form of a Return Receipt After Mailing or Duplicate Return Receipt. The Postal Service currently maintains hardcopy delivery records for Express Mail, COD, Certified, Numbered Insured, Registered, Restricted Delivery, International Accountable, and Return Receipt for Merchandise items. Electronic records, without signature information, are maintained for Express Mail and Delivery Confirmation items in a centralized database.

Internal Use Under the New System: The use of delivery record information will not change under this program. Hardcopy delivery records filed up to the implementation of this program will be maintained for the full stated retention periods. The electronic delivery record program only applies to domestically delivered items; APO and FPO deliveries are not included, nor are the majority of deliveries to territories, possessions, and freely associated states. The electronic delivery record will include the article number, date of delivery, signature of recipient, printed name of recipient, and addressee's delivery address. Information on items that were forwarded or returned to sender will also be maintained as part of the electronic mailpiece record. All electronic delivery records will be maintained in a Postal Service centralized database. PS Form 3811-A, Domestic Return Receipt (After Mailing), will not be used to convey electronic delivery record information to customers for records stored electronically. Instead, customers will receive a dated letter, generated from the centralized database, providing one of the following: (1) The full delivery record, (2) the delivery record absent the signature/name/address information (if that information is not available), (3) a statement that the delivery record could not be found, or (4) a statement that duplicate IDs prohibited final results. These responses, with the exception of response four, are similar to the current responses provided via the PS Form 3811-A. The time to respond to customer inquiries for electronic delivery records will improve significantly.

Current Customer Use: Option 1: When a customer requests a Return Receipt After Mailing (PS Form 3811-A), the Postal Service provides the name and date of delivery only. Option 2: If a Duplicate Return Receipt is requested because the original return receipt was not provided, the Postal Service uses the delivery record to provide the recipient's name, date of delivery, and the addressee's delivery address if different from the address shown on the mailpiece. The customer is also informed if a record of delivery is not found. No actual signatures are provided with either option. All information is provided via the mail in hardcopy format.

Customer Use Under the New System: Service will be improved for Duplicate Return Receipt and Return Receipt After Mailing by the inclusion of an electronically produced image of the customer/recipient's signature, printed name, and address (when available) for items filed electronically. Requesters will receive a Duplicate Return Receipt or Return Receipt After Mailing for electronically filed items via fax or mail. The new form design is a letter which will be automatically generated by the centralized database. Requests for Duplicate Return Receipt and Return Receipt After Mailing must continue to be made at a post office.

On June 10, 1998, the Postal Service published for public comment in the Federal Register (63 FR 31815), the proposed rule to convert to a system of electronic record keeping. Seven comments from two individuals were submitted to the Postal Service regarding the Federal Register notice. These comments concentrated on the following subject areas: Inclusion of printed name on delivery receipt, multiple uses of PS Form 3849, return receipt procedures, availability of records on web site, record security, and the extension of certain special services to other classes of mail. The comments were considered in developing the final rule.

The notice stated that the capture of the recipient's printed name was optional. This has been changed in accordance with DMM section D042.1.7[b].

The notice stated that the hardcopy record will no longer be maintained. The Uniform Photographic Copies of Business and Public Records as Evidence Act (UPA) and the Federal Business Records Act have made records and copies or reproductions that produce a durable medium for reproducing the original admissible in courts of law. The original may be destroyed in the regular course of business. The new process of record storage meets these requirements, and accordingly, the Postal Service will not longer retain these items for delivery record inquiry purposes.

One comment asked how this system of electronic records will be used for recipients of large amounts of accountable mail and the completion of the return receipt (PS Form 3811). This program does not replace or change the current process for PS Form 3811, Return Receipt.

One comment stated that it would be advantageous to have delivery records available on the USPS Web site. The availability of accessing delivery records via the Internet is limited, at this time, to Express Mail and Delivery Confirmation items only, but may be expanded in the future. No signature images will be shown on the Internet for any items.

One commentor raised a question regarding system security to ensure tamper-proof records and originality. The comment asserted that the original delivery receipt must be maintained and be accessible, and that any duplicate return receipts must be validated as they presently are with both the postmark of the completing office and the initials of the postal employee. This electronic system of delivery records is designed to replace, rather than supplement, the current hardcopy filing system for the purpose of customer inquiries. The USPS database that houses delivery records is secure against outside access. Additionally, records are encrypted as they travel to and from the database to ensure record integrity. Delivery record responses will not carry a postmark or any employee designation but will be dated and clearly marked as Postal Service correspondence.

An additional comment was made on the extension of the Signature Confirmation and Delivery Confirmation services to other classes of mail besides Priority Mail and Standard Mail. The electronic record management program does not address the issue of service offerings among classes of mail.

For the reasons discussed above, the Postal Service hereby adopts the following amendments to the Domestic Mail Manual, which is incorporated by reference in the Code of Federal Regulations (see 39 CFR part 111).

List of Subjects in 39 CFR Part 111

Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Revise the following sections of the Domestic Mail Manual to read as follows:

R Rates and Fees

R 900 Services

* * * * *

19.0 Return Receipt

Fee, in addition to postage and other fees, per mailpiece:

Requested at time of mailing (showing to whom delivered, signature, date of delivery, and addressee's address, if different) Requested after mailing (showing to whom delivered, signature, date of delivery, and delivery address, if available)

S Special Services

* * * * *

S900 Special Postal Services

S910 Security and Accountability

S911 Registered Mail

1.0 Basic Information

1.1 Description

Registered mail is the most secure service that the USPS offers. It incorporates a system of receipts to monitor the movement of the mail from the point of acceptance to delivery. Registered mail service provides the sender with a mailing receipt, and a delivery record is maintained by the Postal Service.

* * * * *

S912 Certified Mail

1.0 Basic Information

1.1 Description

Certified mail service provides the sender with a mailing receipt, and a delivery record is maintained by the Postal Service. No record is kept at the office from which certified mail is mailed. No insurance coverage is provided. Certified mail is dispatched and handled in transit as ordinary mail.

* * * * *

S913 Insured Mail

1.0 Basic Information

1.1 Description

Retail insured mail provides up to $5,000 indemnity coverage for a lost, rifled, or damaged article, subject to the standards for the service and payment of the applicable fee. A bulk insurance discount is available for insured articles entered by authorized mailers who meet the criteria in 3.0. No record of insured mail is kept at the office of mailing. Insured mail service provides the sender with a mailing receipt. For mail insured for more than $50, a delivery record is maintained by the Postal Service. Insured mail is dispatched and handled in transit as ordinary mail.

* * * * *

S915—Return Receipt

1.0 Basic Information

1.1 Description

Return receipt service provides a mailer with evidence of delivery (to whom the mail was delivered and date of delivery). A return receipt may be requested before or after mailing. A return receipt requested before mailing also supplies the recipient's actual delivery address, if the delivery address is different from the address used by the sender.

* * * * *

2.0 OBTAINING SERVICE

* * * * *

2.2 After Mailing

The mailer may request a return receipt after mailing by completing Form 3811-A and paying the appropriate fee. The acceptance office will initiate the inquiry or send the form to the delivery post office for completion. When a delivery record is available, the USPS provides the mailer information from that record, including to whom the mail was delivered and the date of delivery. A request for a return receipt after mailing for Express Mail must be requested within 90 days after the date of mailing, and all other requests are limited to 2 years.

* * * * *

4.0 REQUESTS FOR DELIVERY INFORMATION

4.1 Receipt Not Received

After a reasonable period, not longer than 2 years after the date of mailing, a mailer who did not receive return receipt service for which the mailer had paid may request information from the delivery record, using Form 3811-A. Any request for such information for Express Mail must be filed within 90 days after the date of mailing.

4.2 Form 3811-A

The mailer may request information from the delivery record at any post office by completing Form 3811-A. The applicable fee is waived if the mailer can produce a mailing receipt showing the applicable return receipt fee was paid.

* * * * *

S917 Return Receipt for Merchandise

1.0 Basic Information

1.1 Description

Return receipt for merchandise service is a form of return receipt service that provides the sender with a mailing receipt and a return receipt. A delivery record is maintained by the Postal Service, but no record is kept at the office of mailing. A return receipt for merchandise also supplies the recipient's actual delivery address if it is different from the address used by the sender. Mail using this service is dispatched and handled in transit as ordinary mail. This service does not include insurance coverage. A return receipt for merchandise may not be requested after mailing, and restricted delivery service is not available.

* * * * *

S921 Collect on Delivery (COD) Mail

1.0 Basic Information

1.1 Description

Any mailer may use collect on delivery (COD) service to mail an article for which the mailer has not been paid and have its price and the cost of the postage collected from the recipient. If the recipient remits the amount due by check payable to the mailer, the USPS forwards the check to the mailer. If the recipient pays in cash, the USPS sends a postal money order to the mailer. The amount collected from the recipient may not exceed $600. COD service provides the mailer with a mailing receipt, and a delivery record is maintained by the Postal Service.

* * * * *

An appropriate amendment to 39 CFR 111.3 will be published to reflect these changes.

Stanley F. Mires,
Chief Counsel, Legislative.

[FR Doc. 00-8282 Filed 4-4-00; 8:45 am]

BILLING CODE 7710-12-P